DEPARTMENT OF THE TREASURY

Internal Revenue Service

Open Meeting of the Area 1 Taxpayer Advocacy Panel (This Panel Covers the States of New York, Connecticut, Massachusetts, Rhode Island, New Hampshire, Vermont and Maine)

AGENCY: Internal Revenue Service (IRS) Treasury.

ACTION: Notice.

SUMMARY: An open meeting of the Area 1 Taxpayer Advocacy Panel will be conducted (via teleconference) to discuss various IRS issues. The public is invited to make oral comments.

DATES: The meeting will be held Tuesday, August 26, 2003.

FOR FURTHER INFORMATION CONTACT: Mrs. Marisa Knispel at telephone number 888-912-1227 (toll-free), or 718-488-3557 (non toll-free).

SUPPLEMENTARY INFORMATION: Notice is hereby given pursuant to Section 10(a)(2) of the Federal Advisory Committee Act, 5 U.S.C. App. (1988) that an open meeting of the Area 1 Taxpayer Advocacy Panel (TAP) will be held Tuesday, August 26, 2003 from 1 pm EDT to 2 pm EDT via a telephone conference call. The public is invited to make oral comments. Individual comments will be limited to 5 minutes. Due to limited conference lines, notification of intent to participate in the telephone conference call meeting must be made in advance with Marisa Knispel. Mrs. Knispel can be reached at 888-912-1227 or 718-488-3557. If you would like to have the TAP consider a written statement, please call 888-912-1227 or 718-488-3557, or write Marisa Knispel, TAP Office, 10 MetroTech Center, 625 Fulton Street, Brooklyn, NY 11201, or post your comments to the Web site: http://www.improveirs.org. The agenda will include the following: Various IRS issues.

Dated: August 6, 2003.
Tersheia Carter,
Acting Director, Taxpayer Advocacy Panel.

[FR Doc. 03-20474 Filed 8-11-03; 8:45 am]

BILLING CODE 4830-01-P